DEPARTMENT OF THE INTERIOR

National Park Service

[NPS-WASO-NAGPRA-NPS0026042; PPWOCRADN0-PCU00RP14.R50000]

Notice of Inventory Completion: Riverside Metropolitan Museum, Riverside, CA

AGENCY: National Park Service, Interior.

ACTION: Notice.

SUMMARY: The Riverside Metropolitan Museum has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Riverside Metropolitan Museum. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Riverside Metropolitan Museum at the address in this notice by September 10, 2018.

ADDRESSES: Robyn G. Peterson, Ph.D., Museum Director, Riverside Metropolitan Museum, 3580 Mission Inn Avenue, Riverside, CA 92501, telephone (951) 826-5792, email rpeterson@riversideca.gov.

SUPPLEMENTARY INFORMATION: Notice is here given in accordance with the Native American Graves Protection and Repatriation Act (NAGPRA), 25 U.S.C. 3003, of the completion of an inventory of human remains and associated funerary objects under the control of the Riverside Metropolitan Museum, Riverside, CA. The human remains and associated funerary objects were removed from Mason Valley, San Diego County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains and associated funerary objects was made by the Riverside Metropolitan Museum professional staff in consultation with Clint Linton, a member of the Kumeyaay Cultural Repatriation Committee and representative of the following Indian Tribes: The Campo Band of Diegueno Mission Indians of the Campo Indian Reservation, California; Capitan Grande Band of Diegueno Mission Indians of California (Barona Group of Capitan Grande Band of Mission Indians of the Barona Reservation, California; Viejas (Baron Long) Group of Capitan Grande Band of Mission Indians of the Viejas Reservation, California); Ewiiaapayp Band of Kumeyaay Indians of California; Iipay Nation of Santa Ysabel, California (previously listed as the Santa Ysabel Band of Diegueno Mission Indians of the Santa Ysabel Reservation); Inaja Band of Diegueno Mission Indians of the Inaja and Cosmit Reservation, California; Jamul Indian Village of California; La Posta Band of Diegueno Mission Indians of the La Posta Indian Reservation, California; Manzanita Band of Diegueno Mission Indians of the Manzanita Reservation, California; Mesa Grande Band of Diegueno Mission Indians of Mesa Grande Reservation, California; San Pasqual Band of Diegueno Mission Indians of California; and Sycuan Band of the Kumeyaay Nation, hereafter referred to as “The Tribes.”

History and Description of the Remains

At an unknown date, human remains representing, at minimum, one individual were removed from an unknown cremation site in the Mason Valley, San Diego County, CA. In 1972, the Riverside Metropolitan Museum purchased the cremated human remains together with associated funerary objects from Charles F. Irwin of Long Beach, CA. No known individuals were identified. The six associated funerary objects include: Three lumps of burned asphaltum, one length of 14 fused glass beads, one burned fiber cloth, and one piece of asphaltum with burned plant remains and 3-ply cordage inclusions.

It was determined through collections research and geographic location that the cremated human remains and associated funerary objects are of Kumeyaay/Diegueno origin from Mason Valley, San Diego County, CA. Museum records indicate “Indian Cremation Remains.” Mason Valley extends through San Diego and Imperial Counties as well as Baja Norte. While the nation of original inhabitants has been called “Southern Diegueno,” “Diegueno-Kamia Ipai-Tipai,” and “Mission Indians,” the tribes prefer to be called Kumeyaay. The Kumeyaay are a federation of autonomous self-governing bands that have clearly defined territories and are represented by The Tribes.

Determinations Made by the Riverside Metropolitan Museum

Officials of the Riverside Metropolitan Museum have determined that:

• Pursuant to 25 U.S.C. 3001(9), the human remains described in this notice represent the physical remains of one individual of Native American ancestry.

• Pursuant to 25 U.S.C. 3001(3)(A), the six objects described in this notice are reasonably believed to have been placed with or near individual human remains at the time of death or later as part of the death rite or ceremony.

• Pursuant to 25 U.S.C. 3001(2), there is a relationship of shared group identity that can be reasonably traced between the Native American human remains and associated funerary objects and The Tribes.

Additional Requestors and Disposition

Lineal descendants or representatives of any Indian Tribe or Native Hawaiian organization not identified in this notice that wish to request transfer of control of these human remains and associated funerary objects should submit a written request with information in support of the request to Robyn G. Peterson, Ph. D., Museum Director, Riverside Metropolitan Museum 3580 Mission Inn Avenue, Riverside, CA 92501, telephone (951) 826-5792, email rpeterson@riversideca.gov, by September 10, 2018. After that date, if no additional requestors have come forward, transfer of control of the human remains and associated funerary objects to The Tribes may proceed.

The Riverside Metropolitan Museum is responsible for notifying The Tribes that this notice has been published.

Dated: July 13, 2018.
Melanie O'Brien,
Manager, National NAGPRA Program.

[FR Doc. 2018-17218 Filed 8-9-18; 8:45 am]

BILLING CODE 4312-52-P